NATIONAL TRANSPORTATION SAFETY BOARD

Sunshine Act Meeting Notice

TIME AND DATE: 9:30 a.m., Tuesday, October 7, 2003.

PLACE: NTSB Board Room, 429 L'Enfant Plaza, SW., Washington, DC 20594.

STATUS: The one item is open to the public.

MATTER TO BE CONSIDERED:

7561 Railroad Accident Report—Collision of Burlington Northern Santa Fe Freight Train with Metrolink Passenger Train at Placentia, California, April 23, 2002.

News Media Contact: Telephone: (202) 314-6000. Individuals requesting specific accommodations should contact Ms. Carolyn Dargan at (202) 314-6305 by Friday, October 3, 2003.

FOR FURTHER INFORMATION CONTACT: Vicky D'Onofrio, (202) 314-6410.

Dated: October 2, 2003.
Vicky D'Onofrio,
Federal Register Liaison Officer.

[FR Doc. 03-25411 Filed 10-2-03; 2:46 pm]

BILLING CODE 7533-01-M